POSTAL SERVICE

39 CFR Part 20

International Mail Manual; Incorporation by Reference

AGENCY: Postal Service™.

ACTION: Final rule.

SUMMARY: The Postal Service announces the issuance of the Mailing Standards of the United States Postal Service, International Mail Manual (IMM®) dated April 17, 2011, updated with Postal Bulletin revisions through June 2, 2011, effective June 6, 2011, and its incorporation by reference in the Code of Federal Regulations.

DATES: Effective Date: This final rule is effective on August 15, 2011. The incorporation by reference of the IMM is approved by the Director of the Federal Register as of August 15, 2011.

FOR FURTHER INFORMATION CONTACT: Lizbeth Dobbins, (202) 268-3789.

SUPPLEMENTARY INFORMATION: The International Mail Manual was issued on April 17, 2011, and was updated with postal bulletin revisions through June 2, 2011. It replaced all previous editions. This issue of the IMM removes the issue number, replacing it with the issue date to mirror the format used for the Domestic Mail Manual (DMM®). It also continues to enable the Postal Service to fulfill its long-standing mission of providing affordable, universal mail service. It continues to: (1) increase the user's ability to find information; (2) increase the users' confidence that they have found the information they need; and (3) reduce the need to consult multiple sources to locate necessary information. The provisions throughout this issue support the standards and mail preparation changes implemented since the version of May 11, 2009. The International Mail Manual is available to the public on the Postal Explorer® Internet site at http://pe.usps.com.

List of Subjects in 39 CFR Part 20

Foreign relations; Incorporation by reference.

In view of the considerations discussed above, the Postal Service hereby amends 39 CFR part 20 as follows:

PART 20—INTERNATIONAL POSTAL SERVICE

1. The authority citation for part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Amend § 20.1 by revising paragraph (a), and adding a new entry at the end of the table in paragraph (b), to read as follows:

§ 20.1 International Mail Manual; incorporation by reference.

(a) Section 552(a) of title 5, U.S.C., relating to the public information requirements of the Administrative Procedure Act, provides in pertinent part that matter reasonably available to the class of persons affected thereby is deemed published in the Federal Register when incorporated by reference therein with the approval of the Director of the Federal Register. In conformity with that provision and 39 U.S.C. 410(b)(1), and as provided in this part, the Postal Service hereby incorporates by reference its International Mail Manual (IMM), dated April 17, 2011, updated with Postal Bulletin revisions through June 2, 2011, effective June 6, 2011. The Director of the Federal Register approves this incorporation by reference in accordance with 5 U.S.C. 552(a) and 1 CFR Part 51.

(b) * * *

International Mail Manual | Date of issuance
* * * * *
IMM | April 17, 2011.

3. Revise § 20.2 to read as follows:

§ 20.2 Effective date of the International Mail Manual.

The provisions of the International Mail Manual dated April 17, 2011, updated with Postal Bulletin revisions through June 2, 2011, effective June 6, 2011, are applicable with respect to the international mail services of the Postal Service.

Stanley F. Mires,
Chief Counsel, Legislative.

[FR Doc. 2011-20618 Filed 8-12-11; 8:45 am]

BILLING CODE 7710-12-P